NATIONAL SCIENCE FOUNDATION

National Science Board; Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Thursday, September 24, 2009, at 8 a.m.

Place: Columbus, Ohio, The Ohio State University, Nationwide and Ohio Farm Bureau 4H Center, Bob Evans Auditorium.

Status: Some portions open, some portions closed.

Open Sessions

September 24, 2009

8 a.m.-8:20 a.m.

8:20 a.m.-8:35 a.m.

8:35 a.m.-9:20 a.m.

Closed Sessions

September 24, 2009

9:35 a.m.-10:50 a.m.

10:50 a.m.-11:05 a.m.

11:05 a.m.-11:15 a.m.

11:15 a.m.-11:30 a.m.

Agency Contact: Dr. Robert E. Webber, rwebber@nsf.gov, (703) 292-7000, http://www.nsf.gov/nsb/.

Matters To Be Discussed

Thursday, September 24, 2009

Open Session: 8 a.m.-8:20 a.m., Bob Evans Auditorium

• National Science Board Chairman's Introduction

• The Ohio State University President's Welcome

Executive Committee

Open Session: 8:20 a.m.-8:35 a.m., Bob Evans Auditorium

• Executive Committee Chairman's Remarks

• Approval of Minutes for the May 2009 Meeting

• Discussion of Board Priorities for FY 2010

• Updates or New Business from Committee Members

Plenary Open

Open Session: 8:35 a.m.-9:20 a.m., Bob Evans Auditorium

• Approval of Plenary Open Minutes, August 2009

• Resolutions to Close Portions of December 2009 Meeting

• Chairman's Report

• Director's Report

• Open Committee Reports

• Board Member Proposal Review Process

Committee on Programs and Plans (CPP)

Closed Session: 9:35 a.m.-10:50 a.m., Bob Evans Auditorium

• Committee Chairman's Remarks

• Management and Operation of the National Astronomy and Ionosphere Center

• Design for the Deep Underground Science and Engineering Laboratory

Committee on Strategy and Budget (CSB)

Closed Session: 10:50 a.m.-11:05 a.m., Bob Evans Auditorium

• Approval of CSB Minutes, August 9, 2009

• Committee Chairman's Remarks

• NSF Budget Update: FY 2011 Budget Request to OMB

• Other Committee Business

Plenary Executive Closed

Closed Session: 11:05 a.m.-11:15 a.m., Bob Evans Auditorium

• Approval of Plenary Executive Closed Minutes, August 2009

• Board Member Proposal

Plenary Closed

Closed Session: 11:15 a.m.-11:30 a.m., Bob Evans Auditorium

• Approval of Plenary Closed Minutes, August 2009

• Awards and Agreements

• Closed Committee Reports

Ann Ferrante,
Technical Writer/Editor.

[FR Doc. E9-22643 Filed 9-16-09; 4:15 pm]

BILLING CODE 7555-01-P